Executive Order 13652 of September 30, 2013

Continuance Of Certain Federal Advisory Committees

By the authority vested in me as President, by the Constitution and the laws of the United States of America, and consistent with the provisions of the Federal Advisory Committee Act, as amended (5 U.S.C. App.), it is hereby ordered as follows:

Section 1. Each advisory committee listed below is continued until September 30, 2015.

(a) Committee for the Preservation of the White House; Executive Order 11145, as amended (Department of the Interior).

(b) President's Commission on White House Fellowships; Executive Order 11183, as amended (Office of Personnel Management).

(c) President's Committee on the National Medal of Science; Executive Order 11287, as amended (National Science Foundation).

(d) Federal Advisory Council on Occupational Safety and Health; Executive Order 11612, as amended (Department of Labor).

(e) President's Export Council; Executive Order 12131, as amended (Department of Commerce).

(f) President's Committee on the International Labor Organization; Executive Order 12216, as amended (Department of Labor).

(g) President's Committee on the Arts and the Humanities; Executive Order 12367, as amended (National Endowment for the Arts).

(h) President's National Security Telecommunications Advisory Committee; Executive Order 12382, as amended (Department of Homeland Security).

(i) National Industrial Security Program Policy Advisory Committee; Executive Order 12829, as amended (National Archives and Records Administration).

(j) Trade and Environment Policy Advisory Committee; Executive Order 12905, as amended (Office of the United States Trade Representative).

(k) President's Committee for People with Intellectual Disabilities; Executive Order 12994, as amended (Department of Health and Human Services).

(l) National Infrastructure Advisory Council; Executive Order 13231, as amended (Department of Homeland Security).

(m) President's Council on Fitness, Sports, and Nutrition; Executive Order 13265, as amended (Department of Health and Human Services).

(n) President's Advisory Council on Faith-Based and Neighborhood Partnerships; Executive Order 13498, re-established by Executive Order 13569, and continued by Executive Order 13640 (Department of Health and Human Services).

(o) President's Advisory Commission on Asian Americans and Pacific Islanders; Executive Order 13515, as amended (Department of Education).

(p) Presidential Commission for the Study of Bioethical Issues; Executive Order 13521 (Department of Health and Human Services).

(q) National Council on Federal Labor-Management Relations; Executive Order 13522 (Office of Personnel Management).

(r) President's Board of Advisors on Historically Black Colleges and Universities; Executive Order 13532, as amended (Department of Education).

(s) President's Management Advisory Board; Executive Order 13538 (General Services Administration).

(t) President's Council of Advisors on Science and Technology; Executive Order 13539, as amended (Department of Energy).

(u) Interagency Task Force on Veterans Small Business Development; Executive Order 13540 (Small Business Administration).

(v) Advisory Group on Prevention, Health Promotion, and Integrative and Public Health; Executive Order 13544, re-established by Executive Order 13631 (Department of Health and Human Services).

(w) State, Local, Tribal, and Private Sector (SLTPS) Policy Advisory Committee; Executive Order 13549, as amended (National Archives and Records Administration).

(x) President's Advisory Commission on Educational Excellence for Hispanics; Executive Order 13555, re-established by Executive Order 13634 (Department of Education).

(y) President's Global Development Council; Executive Order 13600 (United States Agency for International Development).

(z) President's Advisory Commission on Educational Excellence for African Americans; Executive Order 13621 (Department of Education).

Sec. 2. Notwithstanding the provisions of any other Executive Order, the functions of the President under the Federal Advisory Committee Act that are applicable to the committees listed in section 1 of this order shall be performed by the head of the department or agency designated after each committee, in accordance with the regulations, guidelines, and procedures established by the Administrator of General Services.

Sec. 3. Sections 1 and 2 of Executive Order 13585 of September 30, 2011, and sections 1, 2, and 4 of Executive Order 13591 of November 23, 2011, are superseded by sections 1 and 2 of this order.

Sec. 4. Executive Order 13538 of April 19, 2010, is amended in section 4(c) by striking “The Executive Director shall serve as the Designated Federal Officer in accordance with the Federal Advisory Committee Act, as amended (5 U.S.C. App.) (FACA)” and inserting in lieu thereof “The PMAB shall also have a Designated Federal Officer (DFO) in accordance with the Federal Advisory Committee Act, as amended (5 U.S.C. App.) (FACA). The Executive Director may serve as the DFO”.

Sec. 5. Executive Order 13043 of April 16, 1997, is amended by striking section 4 and renumbering the subsequent sections appropriately.

Sec. 6. Executive Order 13231 of October 16, 2001, as amended, is further amended by striking section 3, except subsection (c) thereof, and inserting immediately preceding subsection (c), the following:

“Sec. 3. The National Infrastructure Advisory Council. The National Infrastructure Advisory Council (NIAC), established on October 16, 2001, shall provide the President, through the Secretary of Homeland Security, with advice on the security and resilience of the critical infrastructure sectors and their functional systems, physical assets, and cyber networks.

“(a) Membership. The NIAC shall be composed of not more than 30 members appointed by the President, taking appropriate account of the benefits of having members:

“(i) from the private sector, including individuals with experience in banking and finance, transportation, energy, water, communications, health care services, food and agriculture, government facilities, emergency services organizations, institutions of higher education, environmental and climate resilience, and State, local, and tribal governments;

“(ii) with senior executive leadership responsibilities for the availability and reliability, including security and resilience, of critical infrastructure sectors;

“(iii) with expertise relevant to the functions of the NIAC; and

“(iv) with experience equivalent to that of a chief executive of an organization.

“Unless otherwise determined by the President, no full-time officer or employee of the executive branch shall be appointed to serve as a member of the NIAC. The President shall designate from among the members of the NIAC a Chair and a Vice Chair, who shall perform the functions of the Chair if the Chair is absent or disabled, or in the instance of a vacancy in the Chair.

“(b) Functions of the NIAC. The NIAC shall meet periodically to:

“(i) enhance the partnership of the public and private sectors in securing and enhancing the security and resilience of critical infrastructure and their supporting functional systems, physical assets, and cyber networks, and provide reports on this issue to the President, through the Secretary of Homeland Security, as appropriate;

“(ii) propose and develop ways to encourage private industry to perform periodic risk assessments and implement risk-reduction programs;

“(iii) monitor the development and operations of critical infrastructure sector coordinating councils and their information-sharing mechanisms and provide recommendations to the President, through the Secretary of Homeland Security, on how these organizations can best foster improved cooperation among the sectors, the Department of Homeland Security, and other Federal Government entities;

“(iv) report to the President through the Secretary of Homeland Security, who shall ensure appropriate coordination with the Assistant to the President for Homeland Security and Counterterrorism, the Assistant to the President for Economic Policy, and the Assistant to the President for National Security Affairs under the terms of this order; and

“(v) advise sector-specific agencies with critical infrastructure responsibilities to include issues pertaining to sector and government coordinating councils and their information sharing mechanisms.

“In implementing this order, the NIAC shall not advise or otherwise act on matters pertaining to National Security and Emergency Preparedness (NS/EP) Communications and, with respect to any matters to which the NIAC is authorized by this order to provide advice or otherwise act on that may depend on or affect NS/EP Communications, shall coordinate with the National Security and Telecommunications Advisory Committee established by Executive Order 12382 of September 13, 1982, as amended.”.

Sec. 7. Executive Order 13600 of February 9, 2012, is amended in section 3(b) by striking the “and” immediately preceding “the Chief Executive Officer of the Millennium Challenge Corporation” and by adding “, the United States Trade Representative, and the Chief Executive Officer of the Overseas Private Investment Corporation” immediately preceding “shall serve as non-voting members”. Executive Order 13600 is further amended in section 5(c) by adding “administrative” immediately preceding “matters and activities pertaining”.

Sec. 8. Section 3(b) of Executive Order 13515 of October 14, 2009, as amended, is further amended by inserting in the list of agency members “the General Services Administration” and “the National Aeronautics and Space Administration” after “the Small Business Administration”, and redesignating the subsections of section 3(b) as appropriate. Subsection 3(b) is further amended by inserting at the end the following sentence:

“The Initiative is encouraged to invite other affected agencies, such as the Consumer Financial Protection Bureau, the Corporation for National and Community Service, the Equal Employment Opportunity Commission, and the Federal Communications Commission to attend meetings and participate in the Initiative as appropriate.”.

Sec. 9. This order shall be effective September 30, 2013.

THE WHITE HOUSE,

September 30, 2013.

[FR Doc. 2013-24388

Filed 10-3-13; 8:45 am]

Billing code 3295-F4